NUCLEAR REGULATORY COMMISSION

[Docket No. 70-0036; NRC-2009-0278]

Environmental Assessment and Finding of No Significant Impact for a License Amendment to Materials License No. SNM-33; Westinghouse Electric Company, LLC, Hematite Decommissioning Project, Hematite, MO

AGENCY: Nuclear Regulatory Commission.

ACTION: Notice of availability.

FOR FURTHER INFORMATION CONTACT: John J. Hayes, Senior Project Manager, Decommissioning and Uranium Recovery Licensing Directorate, Division of Waste Management and Environmental Protection, Office of Federal and State Materials and Environmental Management Programs, U.S. Nuclear Regulatory Commission, Washington, DC 20555, telephone: 301-415-5928; fax number: 301-415-5369; e-mail: John.Hayes@nrc.gov.

SUPPLEMENTARY INFORMATION:

I. Introduction

The U.S. Nuclear Regulatory Commission (NRC) is considering the issuance of a license amendment to Special Nuclear Material (SNM) License number SNM-33, issued to Westinghouse Electric Company, LLC (WEC) to authorize decommissioning of the former Hematite Fuel Cycle Facility in Hematite, Missouri for unrestricted use and termination of this license. The NRC has prepared an Environmental Assessment (EA) in support of this amendment in accordance with the requirements of Title 10 of the Code of Federal Regulations (10 CFR) part 51. Based on the EA, the NRC has concluded that a Finding of No Significant Impact (FONSI) is appropriate. The amendment will be issued following the publication of this Notice.

II. EA Summary

The purpose of the proposed amendment is to authorize the decommissioning of the licensee's Hematite, Missouri facility for unrestricted use to allow for license termination. The original special nuclear material license for the Hematite facility was issued to Mallinckrodt Chemical Works (MCW) on June 18, 1956. In April 2000, the Hematite facility was purchased by British Nuclear Fuels Limited (BNFL). At the time of the purchase, BNFL was the parent corporation to WEC and the Hematite operations were consolidated into the WEC nuclear operations. On August 12, 2009, WEC requested that NRC approve the decommissioning plan for the facility which, when completed, would permit the site to be released for unrestricted use. Final approval for release of the site for unrestricted use and license termination would be contingent upon the NRC staff's approval of the licensee's final status survey report and making the findings required by the Commission's regulations following completion of the licensee's decommissioning activate. The WEC's request for the proposed amendment was previously noticed in the Federal Register on December 8, 2009 with a notice of an opportunity to request a hearing.

The NRC staff has prepared an environmental assessment (EA) (Agency Documents Access and Management System (ADAMS) ML111020620) in support of this amendment. The NRC evaluated whether there are significant environment impacts related to the proposed action and considered whether the impacts were adverse or positive and evaluated the cumulative impacts. The proposed action is to excavate and remove an estimated 23,000 m³ (30,000 yd³) of contaminated waste and soil from known and suspected burial sites as well as contamination beneath building floor slabs and the site's evaporation pond. The waste will be shipped out of the state by train for disposal at an approved facility.

The EA evaluated the environmental impact that would result from the removal of concrete building slabs that remained from the previously approved building demolition phase of the site's decommissioning, the removal of buried waste, the removal of surface, subsurface soil and contaminated sediments. The primary areas of concern expressed by members of the public were the potential for ground and surface water contamination, the potential for exposure to members of the public to contamination and local impacts on transportation and traffic congestion. Other areas evaluated included impacts to ecological resources, air quality, socioeconomic, noise, historical and cultural sites and visual and scenic areas.

III. Finding of No Significant Impact

The regulatory basis for the unrestricted use is found in 10 CFR 20.1402 and is based on the total exposure to the average member of the most critical group. For the WEC site the most critical group is that of a resident farmer who lives on the site and obtains his food and drinking water from the site and inhales potentially contaminated air. The specific release criteria for all environmental pathways at the site is 25 mrem/yr expressed as the total effective dose equivalent (TEDE). The NRC has independently confirmed the WEC calculations contained in the site's DP demonstrate that the release criteria have been met and have documented in the NRC SER that the actions associated with the decommissioning can be done safely. The offsite transport of radioactively contaminated material by rail car to an offsite facility located in Idaho was also confirmed in the NRC evaluations and is of such low activity that it meets the NRC criteria for disposal at a non-NRC or Agreement State LLRM licensed disposal facility.

The results of these calculations confirm that the radiological environmental impacts from the proposed amendment are bounded by the impacts evaluated in NUREG-1496, “Generic Environmental Impact Statement in Support of Rulemaking on Radiological Criteria for License Termination of NRC-Licensed Facilities,” Vols. 1, 2, and 3, dated July 1997 (ADAMS ML042310492, ML042320379, and ML042330385) and NUREG-0170, “Final Environmental Statement on the Transportation of Radioactive Materials by Air and Other Modes,” Vols. 1 and 2, dated December 1977 (ADAMS ML022590355 and ML022590511). The staff has also found that the non-radiological impacts associated with the proposed amendment are not significant. On the basis of the EA, the NRC has concluded that there are no significant environmental impacts from the proposed amendment and has determined not to prepare an environmental impact statement.

IV. Further Information

Documents related to this action, including the application for amendment and supporting documentation, are available online in the NRC Library at http://www.nrc.gov/reading-rm/adams.html. From this page, the public can gain entry into ADAMS, which provides text and image files of the NRC's public documents. The ADAMS accession numbers for the documents related to this notice are:

Document | ADAMS No.
Decommissioning Plan | ML092330123, ML092330125, ML092330127, ML092330129, ML092330131, and ML092330132.
Environmental Report | ML092870403 and ML092870405.
Radiological Characterization Report | ML092870496 and ML092870506.
Supplemental Characterization Report | ML093430818, ML093430819, ML093430821, and ML093430822.
Historical Site Assessment | ML092870417, and ML092870418.
Site Specific Soil Parameters | ML093430808.
Determination of Distribution Coefficients for Radionuclides of Concern at the Westinghouse Hematite Facility | ML093430811.
Supplemental Analysis of Hydrogeologic Conditions in Overburden at Westinghouse Hematite Facility, Hematite, Missouri | ML093430807.
NRC Staff Environmental Assessment | ML111020620.
NUREG-0170, “Final Environmental Statement on the Transportation of Radioactive Materials by Air and Other Modes,” Vols. 1 and 2, dated December 1977 | ML022590355 and ML022590511.
NUREG-1496, “Generic Environmental Impact Statement in Support of Rulemaking on Radiological Criteria for License Termination of NRC-Licensed Facilities,” Vols. 1, 2, and 3, dated July 1997 | ML042310492, ML042320379, and ML042330385.

If you do not have access to ADAMS or if there are problems in accessing the documents located in ADAMS, contact the NRC Public Document Room (PDR) reference staff at 1-800-397-4209, 301-415-4737 or by e-mail to pdr.resource@nrc.gov.

These documents may also be viewed electronically on the public computers located at the NRC's Public Document Room (PDR), O 1 F21, One White Flint North, 11555 Rockville Pike, Rockville, MD 20852. The PDR reproduction contractor will copy documents for a fee.

Dated at Rockville, Maryland this 23rd day of September, 2011.
For the Nuclear Regulatory Commission.
Paul Michalak,
Acting Deputy Director, Decommissioning and Uranium Recovery Licensing Directorate, Division of Waste Management and Environmental Protection, Office of Federal and State Materials and Environmental Management Programs.

[FR Doc. 2011-25063 Filed 9-28-11; 8:45 am]

BILLING CODE 7590-01-P